DEPARTMENT OF LABOR

Transition to Electronic Payments and Disbursements

AGENCY: Office of the Chief Financial Officer, Department of Labor.

ACTION: Notice.

SUMMARY: This notice is to inform the public that effective September 30, 2025, the Department of Labor (DOL) will no longer accept paper checks as a form of payment, and DOL will not issue paper checks as payments, as directed in President Trump's Executive Order 14247, Modernizing Payments To and From America's Bank Account (E.O. 14247), to the extent permitted by law. This change is intended to improve efficiency in processing payments and reduce administrative burdens. DOL is committed to assisting the public during this transition period and encourages any affected parties to reach out with questions or concerns.

DATES: This change will be implemented beginning September 30, 2025.

FOR FURTHER INFORMATION CONTACT: Westley Everette, Associate Deputy Chief Financial Officer, Office of the Chief Financial Officer, U.S. Department of Labor, 200 Constitution Avenue NW, Room S-5526, Washington, DC 20210; email: Everette.Westley@dol.gov; telephone (202) 693-6800. For persons with a hearing or speech disability who need assistance to use the telephone system, please dial 711 to access telecommunications relay services.

SUPPLEMENTARY INFORMATION:

I. Background

On March 25, 2025, President Trump issued E.O. 14247, Modernizing Payments To and From America's Bank Account (90 FR 14001).¹ E.O. 14247 “promotes operational efficiency by mandating the transition to electronic payments for all Federal disbursements and receipts by digitizing payments to the extent permissible under appliable law . . .” and requires the U.S. Department of the Treasury to “cease issuing paper checks” by September 30, 2025. It further requires all executive departments and agencies to “comply by transitioning to electronic funds transfer [EFT] methods, including direct deposit, prepaid card accounts, and other digital payment options, and take all steps necessary to enroll recipients in EFT payments . . .” The directives included in E.O. 14247 were given to executive agencies to transition to EFT methods and other digital payment options for payments made to the Federal Government to facilitate electronic processing as permissible and as soon as practicable.

¹ See E.O.14247, Modernizing Payments To and From America's Bank Account (2025) at https://www.whitehouse.gov/presidential-actions/2025/03/modernizing-payments-to-and-from-americas-bank-account/.

Accordingly, to advance President Trump's directives in E.O. 14247 and to build upon the Department's ongoing technological efficiency initiatives, DOL will no longer accept paper checks as a form of payment, nor will DOL issue paper checks.

II. Impact of This Change

The transition from paper checks to electronic payments offers several important advantages:

• Speed and Efficiency: Electronic Funds Transfers (EFTs) are processed more quickly than paper checks, helping beneficiaries receive their payments on time without delays.

• Cost Savings: According to the U.S. Department of the Treasury, issuing a paper check costs about 50 cents, whereas an EFT costs less than 15 cents. This shift could save the federal government millions of dollars annually.

• Enhanced Security: Paper checks are 16 times more likely to be lost or stolen compared to electronic payments, increasing the risk of fraud. Electronic payments provide a safer, more secure way to receive benefits.

By September 30, 2025, the Department of the Treasury will cease issuing paper checks for all federal disbursements, to the extent permitted by law. All federal agencies must transition to electronic funds transfer (EFT) and actively enroll recipients in digital payment methods. To ensure compliance and minimize disruptions, DOL is proactively sending notices to people who currently receive paper checks to explain the upcoming change and highlight the benefits of switching to electronic payments.

For more information, please visit the E.O. resource hub at https://tfx.treasury.gov/eo-resources.

Authority: E.O. 14247, 90 FR 14001.

Dated: August 22, 2025.
Kevin Brown,
Acting Chief Financial Officer.

[FR Doc. 2025-16426 Filed 8-26-25; 8:45 am]

BILLING CODE 4510-7C-P